FEDERAL COMMUNICATIONS COMMISSION

Information Collection Approved by the Office of Management and Budget (OMB)

AGENCY: Federal Communications Commission.

ACTION: Notice.

SUMMARY: The Federal Communications Commission (FCC) has received Office of Management and Budget (OMB) approval for the following public information collections pursuant to the Paperwork Reduction Act of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Leslie Smith, Office of the Managing Director, at (202) 418-0217, or email: Leslie.Smith@fcc.gov.

SUPPLEMENTARY INFORMATION: OMB Control Number: 3060-1181.

OMB Approval Date: July 31, 2013.

OMB Expiration Date: July 31, 2016.

Title: Study Area Boundary Data Reporting in Esri Shapefile Format, DA 12-1777 and DA 13-282.

Form Number: N/A.

Respondents: Incumbent local exchange carriers, and state regulatory entities.

Number of Respondents and Responses: 1,443 respondents; 1,443 responses.

Estimated Time per Response: 26 hours.

Frequency of Response: Annually if changes to study area boundaries; biannually for recertification or previously submitted data.

Obligation to Respond: Required. Statutory authority for this information collection is contained in 47 U.S.C. 254(b).

Total Annual Burden: 7,924 hours for in-house work for large incumbent local exchange carriers.

Total Annual Cost: $705,935.00 contracting costs for small incumbent local exchange carriers.

Nature and Extent of Confidentiality: The Commission is not requesting that respondents submit confidential information to the Commission. Also, respondents may request materials or information submitted to the Commission be withheld from public inspection under 47 CFR 0.459 of the Commission's rules.

Needs and Uses: The Commission requires incumbent local exchange carriers (ILECs) to file shapefile maps of their service territories in a state (study area). State commission can also submit these data voluntarily for ILECs in their state. Shapefiles are a commonly used, digitized, geographic information system (GIS) format. Accurate study area boundaries are necessary for implementing various reforms adopted as part of the USF/ICC Transformation Order, 76 FR 73830, November 29, 2011, including the legitimate distribution of universal service support to rural, high cost carriers. Once ILECs have uploaded shapefiles to a web interface provided by the Commission, they must certify to the accuracy of the study area boundary map data. Filers must submit updated boundary shapefiles if their study area boundaries change and must recertify the accuracy of the boundary data every two years.

Federal Communications Commission.
Marlene H. Dortch,
Secretary.

[FR Doc. 2013-29866 Filed 12-16-13; 8:45 am]

BILLING CODE 6712-01-P